DEPARTMENT OF EDUCATION

A National Dialogue: The Secretary of Education's Commission on the Future of Higher Education

AGENCY: A National Dialogue: The Secretary of Education's Commission on the Future of Higher Education, U.S. Department of Education.

ACTION: Notice of open meeting.

SUMMARY: This notice sets forth the schedule and proposed agenda of an upcoming open meeting of A National Dialogue: The Secretary of Education's Commission on the Future of Higher Education, (Commission). The notice also describes the functions of the Commission. Notice of this meeting is required by section 10(a)(2) of the Federal Advisory Committee Act and is intended to notify the public of their opportunity to attend.

DATES: Thursday, August 10, 2006.

TIME: 10 a.m. to 1 p.m.

ADDRESSES: The Commission will meet in Washington, DC, at the Department of Education, 400 Maryland Avenue, SW., Washington, DC, Barnard Auditorium.

FOR FURTHER INFORMATION CONTACT: Kristen Vetri, Chief of Staff, National Dialogue: The Secretary of Education's Commission on the Future of Higher Education, 400 Maryland Avenue, SW., Washington, DC 20202-3510; telephone: (202) 205-8741.

SUPPLEMENTARY INFORMATION: The Commission is established by the Secretary of Education to begin a national dialogue about the future of higher education in this county. The purpose of this Commission is to consider how best to improve our system of higher education to ensure that our graduates are well prepared to meet our future workforce needs and are able to participate fully in the changing economy. The Commission shall consider federal, state, local and institutional roles in higher education and analyze whether the current goals of higher education are appropriate and achievable. The Commission will also focus on the increasing tuition costs and the perception of many families, particularly low-income families, that higher education is inaccessible.

The agenda for this meeting will include a discussion among commission members regarding preliminary findings and recommendations for the final report.

Individuals who will need accommodations for a disability in order to attend the meeting (e.g., interpreting services, assistive listening devices, or materials in alternative format) should notify Kristen Vetri at (202) 205-8741 no later than July 31, 2006. We will attempt to meet requests for accommodations after this date but cannot guarantee their availability. The meeting site is accessible to individuals with disabilities.

Individuals interested in attending the meeting must register in advance because of limited space issues. Please contact Kristen Vetri at (202) 205-8741 or by e-mail at Kristen.Vetri@ed.gov.

Opportunities for public comment are available through the Commission's Web site at http://www.ed.gov/about/bdscomm/list/hiedfuture/index.html. Records are kept of all Commission proceedings and are available for public inspection at the staff office for the Commission from the hours of 9 a.m. to 5 p.m.

Dated: July 19, 2006.
Margaret Spellings,
Secretary, U.S. Department of Education.

[FR Doc. 06-6421 Filed 7-21-06; 8:45 am]

BILLING CODE 4000-01-M